DEPARTMENT OF THE INTERIOR

Fish and Wildlife Service

Notice of Availability, Draft Natural Resource Restoration Plan and National Environmental Policy Act Environmental Assessment for the W.R. Grace Superfund Site, Wayne Township, Passaic County, New Jersey

AGENCY: Fish and Wildlife Service, Interior.

ACTION: Notice of availability; request for comments.

SUMMARY: The U.S. Fish and Wildlife Service (Service), on behalf of the Department of the Interior (DOI) as a Natural Resource Trustee (Trustee), announces the release for public review of the Draft Natural Resource Restoration Plan and National Environmental Policy Act (NEPA) Environmental Assessment (RP/EA) for the W.R. Grace Superfund Site, Wayne Township, Passaic County, New Jersey. The Draft RP/EA describes the DOI's proposal to restore natural resources injured as a result of contamination at the W.R. Grace Superfund Site.

DATES: Written comments must be submitted on or before August 25, 2006.

ADDRESSES: Requests for copies of the Draft RP/EA may be made by mail or in person to: Clay Stern, U.S. Fish and Wildlife Service, New Jersey Field Office, 927 North Main Street, Pleasantville, New Jersey, 08232. Written comments or materials regarding the Draft RP/EA should be sent to the same address.

FOR FURTHER INFORMATION CONTACT: Clay Stern, Environmental Contaminants Branch, U.S. Fish and Wildlife Service, New Jersey Field Office, 927 North Main Street, Pleasantville, New Jersey, 08232. Interested parties may also call 609-646-9310, extension 27 or electronic mail to clay_stern@fws.gov for further information.

SUPPLEMENTARY INFORMATION: Under the authority of the Comprehensive Environmental Response, Compensation, and Liability Act (CERCLA) of 1980 as amended (42 U.S.C. 9601 et seq.), commonly known as Superfund, “* * *[Trustees] may assess damages to natural resources resulting from a discharge of oil or a release of a hazardous substance * * * and may seek to recover those damages.” Natural resource damage assessments are separate from the cleanup actions undertaken at a hazardous waste site, and provide a process whereby the Trustees can determine the proper compensation to the public for injury to natural resources. At the W.R. Grace Superfund Site in Wayne Township, Passaic County, New Jersey, DOI was the sole natural resource trustee involved in the Federal Government's settlement with W.R. Grace & Company—Connecticut (Civil Action No. 98-2045). The Service, acting on behalf of the DOI, determined that the primary injuries to trust resources resulting from site-related contamination and response actions were reduced quality and quantity of habitat for migratory birds and other wildlife. Trust resources that utilize these habitats were adversely affected through pathways such as food source contamination or reduced abundance and diversity of food supply due to impacts on the Sheffield Brook benthic community. The settlement of $270,000 was designated for restoration, replacement, or acquisition of the equivalent natural resources injured by the release of contaminants at the site.

The Draft RP/EA is being released in accordance with the Natural Resource Damage Assessment Regulations found at 43 CFR, part II. The Draft RP/EA describes several natural resource restoration, acquisition, and protection alternatives identified by the DOI, and evaluates each of the possible alternatives based on all relevant considerations. The DOI's Preferred Alternative is to use the settlement funds to acquire and manage wildlife habitat in perpetuity which is similar to habitat injured at the Grace Superfund Site. Details regarding the proposed projects are contained in the Draft RP/EA.

Interested members of the public are invited to review and comment on the Draft RP/EA. All comments received on the Draft RP/EA will be considered and a response provided either through revision of this Draft RP/EA and incorporation into the Final Restoration Plan and Environmental Assessment, or by letter to the commenter.

Author

The primary author of this notice is Clay Stern.

Authority: The authority for this action is the CERCLA of 1980 as amended (42 U.S.C. 9601 et seq.), and implementing Natural Resource Damage Assessment Regulations found at 15 CFR part 990.

Dated: June 26, 2006.
Marvin E. Moriarty,
Regional Director, Region 5, U.S. Fish and Wildlife Service, DOI Authorized Official, U.S. Department of the Interior.

[FR Doc. E6-11910 Filed 7-25-06; 8:45 am]

BILLING CODE 4310-55-P